DEPARTMENT OF THE INTERIOR

Bureau of Land Management

[COC 28270]

Public Land Order No. 7717; Partial Revocation of Secretarial Order Dated October 26, 1906; Colorado

AGENCY: Bureau of Land Management, Interior.

ACTION: Public Land Order.

SUMMARY: This order partially revokes a withdrawal insofar as it affects 160 acres of National Forest System land withdrawn from all forms of appropriation under the public lands laws, including the mining laws and reserved for use by the Forest Service as the Coon Creek Ranger Station within the Grand Mesa National Forest. This order also opens the land to sale under the authority of Public Law 107-63.

DATES: Effective Date: December 26, 2008.

FOR FURTHER INFORMATION CONTACT: John D. Beck, BLM Colorado State Office, 2850 Youngfield Street, Lakewood, Colorado 80215-7093, 303-239-3882.

SUPPLEMENTARY INFORMATION: This action makes the land available for sale under the authority of Section 329 of the Department of the Interior and Related Agencies Appropriation Act, 2002 (Pub. L. 107-63) in connection with the Forest Service's Pilot Conveyance Program for excess Forest Service structures.

Order

By virtue of the authority vested in the Secretary of the Interior by Section 204 of the Federal Land Policy and Management Act of 1976, 43 U.S.C. 1714 (2000), it is ordered as follows:

1. The Secretarial Order dated October 26, 1906, which withdrew National Forest System lands from appropriation under the public land laws, including the mining laws and reserved them for use by the Forest Service as Ranger Stations, is hereby revoked only insofar as it affects the following described land:

Grand Mesa National Forest Coon Creek Ranger Station Sixth Principal Meridian

T. 11 S., R. 96 W.,

sec. 16, NE¼.

The area described contains 160 acres in Mesa County.

2. The land described in Paragraph 1 is hereby opened to sale in accordance with Section 329 of the Department of the Interior and Related Agencies Appropriation Act, 2002 (Pub. L. 107-63).

Dated: November 10, 2008.
C. Stephen Allred,
Assistant Secretary—Land and Minerals Management.

[FR Doc. E8-28009 Filed 11-24-08; 8:45 am]

BILLING CODE 3410-11-P